DEPARTMENT OF THE INTERIOR

Fish and Wildlife Service

[FWS-R4-ES-2018-N046; FXES11130400000EA-123-FF04EF1000]

Endangered and Threatened Wildlife and Plants; Availability of Proposed Low-Effect Habitat Conservation Plan for the Sand Skink, Lake, County, FL

AGENCY: Fish and Wildlife Service, Interior.

ACTION: Notice of availability; request for comment/information.

SUMMARY: We, the Fish and Wildlife Service (Service), have received an application for an incidental take permit (ITP) under the Endangered Species Act of 1973, as amended. The City of Groveland is requesting a 10-year ITP for take of the sand skink. We request public comment on the permit application, which includes the proposed habitat conservation plan, as well as on our preliminary determination that the plan qualifies as low-effect under the National Environmental Policy Act. To make this determination, we used our environmental action statement and low-effect screening form, which are also available for review.

DATES: To ensure consideration, please send your written comments by July 27, 2018.

ADDRESSES: If you wish to review the application, including the HCP, as well as our environmental action statement or low-effect screening form, you may request the documents by email, U.S. mail, or phone. These documents are also available for public inspection by appointment during normal business hours at the office below. Send your comments or requests by any one of the following methods.

Email: northflorida@fws.gov. Use “Attn: TE69161C-0.”

Fax: Field Supervisor, (904) 731-3191, “Attn: TE69161C-0.”

U.S. mail: Field Supervisor, Jacksonville Ecological Services Field Office, Attn: TE69161C-0, U.S. Fish and Wildlife Service, 7915 Baymeadows Way, Suite 200, Jacksonville, FL 32256.

In-person drop-off: You may drop off information during regular business hours at the above office address.

FOR FURTHER INFORMATION CONTACT: Erin M. Gawera, telephone: (904) 731-3121; email: erin_gawera@fws.gov.

SUPPLEMENTARY INFORMATION:

Background

Section 9 of the Endangered Species Act (ESA; 16 U.S.C. 1531 et seq.) and our implementing regulations in the Code of Federal Regulations (CFR) at 50 CFR part 17 prohibit the “take” of fish and wildlife species listed as endangered or threatened. Take of listed fish or wildlife is defined under the ESA as “to harass, harm, pursue, hunt, shoot, wound, kill, trap, capture, or collect, or to attempt to engage in any such conduct” (16 U.S.C. 1532(19)). However, under limited circumstances, we issue permits to authorize incidental take, i.e., take that is incidental to, and not the purpose of, the carrying out of an otherwise lawful activity.

Regulations governing incidental take permits for endangered and threatened species are at 50 CFR 17.22 and 17.32, respectively. In addition to meeting other criteria, an incidental take permit's proposed actions must not jeopardize the existence of federally listed fish, wildlife, or plants.

Applicant's Proposal

The City of Groveland is requesting a 10-year ITP to take approximately 1.57 acres (ac) of occupied sand skink (Neoseps reynoldsi) foraging and sheltering habitat incidental to construction of a fire station. The 5.0-ac project site is parcel Number 19-22-25-000100005200, located within Section 19, Township 22 South, Range 25 East in Lake County, Florida. The project includes the clearing, infrastructure building, and landscaping associated with construction. The applicant proposes to mitigate for the take of the threatened sand skink by purchasing 3.14 mitigation credits within Backbone Conservation Bank or another Service-approved sand skink conservation bank.

Our Preliminary Determination

We have determined that the applicant's proposal, including the proposed mitigation and minimization measures, would have minor or negligible effects on the species covered in the HCP. Therefore, we have determined that the incidental take permit for this project would be “low effect” and qualify for categorical exclusion under the National Environmental Policy Act (NEPA), as provided by 43 CFR 46.205 and 43 CFR 46.210. A low-effect HCP is one involving (1) minor or negligible effects on federally listed or candidate species and their habitats, and (2) minor or negligible effects on other environmental values or resources.

Next Steps

We will evaluate the HCP and comments we receive to determine whether the ITP application meets the requirements of section 10(a) of the ESA. We will also conduct an intra-Service consultation to evaluate whether issuance of the ITP would comply with section 7 of the ESA. We will use the results of this consultation, in combination with the above findings, in our final analysis to determine whether or not to issue the ITP. If the requirements are met, we will issue ITP number TE69161C-0 to the applicant.

Public Availability of Comments

Before including your address, phone number, email address, or other personal identifying information in your comment, you should be aware that your entire comment—including your personal identifying information—may be made publicly available at any time. While you can ask us in your comment to withhold your personal identifying information from public review, we cannot guarantee that we will be able to do so.

Authority

We provide this notice under section 10 of the ESA and NEPA regulation 40 CFR 1506.6.

Jay B. Herrington,
Field Supervisor, Jacksonville Field Office, Southeast Region.

[FR Doc. 2018-13799 Filed 6-26-18; 8:45 am]

BILLING CODE 43133-15-P